DEPARTMENT OF ENERGY

Federal Energy Regulatory Commission

[Docket No. RP02-134-001]

Maritimes & Northeast Pipeline, L.L.C.; Notice of Compliance Filing

May 23, 2002.

Take notice that on May 15, 2002, Maritimes & Northeast Pipeline, L.L.C. (Maritimes) tendered for filing a compliance filing as directed by the Commission's April 25, 2002 Order in the above captioned proceeding.

Maritimes states that the purpose of the filing is to comply with the Commission's requirement in the April 2002 Order that Maritimes file certain information as a supplement to its cost-and-revenue study filed on December 27, 2001, in this proceeding.

Maritimes states that copies of its filing have been mailed to all parties on the Commission's Official Service List in this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13504 Filed 5-29-02; 8:45 am]

BILLING CODE 6717-01-P